DEPARTMENT OF AGRICULTURE

Rural Housing Service

Notice of Request for Extension of a Currently Approved Information Collection

AGENCY: Rural Housing Service, USDA.

ACTION: Proposed collection; comments requested.

SUMMARY: In accordance with the Paperwork Reduction Act of 1995, this notice announces the Rural Housing Service's (RHS's) intention to request an extension for a currently approved information collection in support of 7 CFR 3560, Direct Multi-Family Housing Loans and Grants.

DATES: Comments on this notice must be received by October 9, 2007 to be assured of consideration.

FOR FURTHER INFORMATION CONTACT: William Cole, Loan Specialist, Multi-Family Housing Direct Loan Division, Rural Housing Service, U.S. Department of Agriculture, Room 1247, South Building, Stop 0781, 1400 Independence Avenue, SW., Washington, DC 20250-0781, telephone (202) 720-5443.

SUPPLEMENTARY INFORMATION: Title: 7 CFR 3560 Direct Multi-Family Housing Loans and Grants.

OMB Number: 0575-0189.

Expiration Date of Approval: November 30, 2007.

Type of Request: Extension of a currently approved information collection.

Abstract: The information collected is used by the Agency to manage, plan, evaluate, and account for Government resources. The reports are required to ensure the proper and judicious use of public funds.

Estimate of Burden: Public reporting burden for this collection of information is estimated to average 30 minutes per response.

Respondents: Individuals, corporations, associations, trusts, Indian tribes, public or private nonprofit organizations, which may include faith-based, consumer cooperative, or partnership.

Estimated Number of Respondents: 2,082,153.

Estimated Number of Responses per Respondent: 1.1.

Estimated Number of Responses: 2,307,553.

Estimated Total Annual Burden on Respondents: 1,132,930 hours.

Copies of this information collection can be obtained from Brigitte Sumter, Regulations and Paperwork Management Branch, at (202) 692-0042.

Comments

Comments are invited on: (a) Whether the proposed collection of information is necessary for the proper performance of the functions of RHS, including whether the information will have practical utility; (b) the accuracy of RHS estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to Brigitte Sumter, Regulations and Paperwork Management Branch, U.S. Department of Agriculture, Rural Development, STOP 0742, 1400 Independence Ave., SW., Washington, DC 20250. All responses to this notice will be summarized and included in the request for OMB approval. All comments will also become a matter of public record.

Dated: August 3, 2007.
David Villano,
Acting Administrator, Rural Housing Service.

[FR Doc. E7-15520 Filed 8-8-07; 8:45 am]

BILLING CODE 3410-XV-P